DEPARTMENT OF COMMERCE

Bureau of Industry and Security

15 CFR Part 774

The Commerce Control List

CFR Correction

In Title 15 of the Code of Federal Regulations, Parts 300 to 799, revised as of January 1, 2011, on page 704, in Supplement No. 1 of Part 774, ECCN 1E001 is amended by removing the first entry in the table under Reasons for control for NS Column 1 and adding an entry following the remaining NS Column 1 entry that reads “NS applies to “technology” for items controlled by 1A004.......NS Column 2”.

[FR Doc. 2011-32747 Filed 12-20-11; 8:45 am]

BILLING CODE 1505-01-D